DEPARTMENT OF THE INTERIOR

National Park Service

Notice of Intent to Repatriate a Cultural Item in the Possession of the Field Museum of Natural History, Chicago, IL

AGENCY: National Park Service

ACTION: Notice

Notice is hereby given under the Native American Graves Protection and Repatriation Act, 43 CFR 10.10 (a)(3), of the intent to repatriate a cultural item in the possession of the Field Museum of Natural History that meets the definition of “object of cultural patrimony” under Section 2 of the Act.

This notice is published as part of the National Park Service's administrative responsibilities under NAGPRA, 43 CFR 10.2 (c). The determinations within this notice are the sole responsibility of the museum, institution, or Federal agency that has control of these cultural items. The National Park Service is not responsible for the determinations within this notice.

The cultural item is a totem pole, catalogue number 19341, accession 663. The totem pole is carved with an eagle, a thunderbird, and a bear.

Until 1899, the totem pole stood in Cape Fox, AK. The totem pole was removed from Cape Fox, AK by the Harriman Alaska Expedition in July 1899, when the expedition's steamer anchored near the deserted village. It was donated to the Field Museum of Natural History on January 15, 1900 by D. G. Elliott. Mr. Elliot had been a member of the Harriman Expedition, and was the curator of zoology at the Field Museum of Natural History at the time of donation.

Consultation evidence indicates that at the time of collection by the Harriman Alaska Expedition the totem pole was considered to be the communal property of residents of Cape Fox, AK and could not have been alienated, appropriated, or conveyed by any individual.

Based on the above-mentioned information, officials of the Field Museum of Natural History have determined that, pursuant to 43 CFR 10.2 (d)(4), this cultural item has ongoing historical, traditional, and cultural importance central to the tribe itself, and could not have been alienated, appropriated, or conveyed by any individual. Officials of the Field Museum of Natural History also have determined that, pursuant to 43 CFR 10.2 (e), there is a relationship of shared group identity that can be reasonably traced between this item and the Cape Fox Corporation.

This notice has been sent to officials of the Cape Fox Corporation. Representatives of any other Indian tribe that believes itself to be culturally affiliated with this cultural item should contact Dorren Martin-Ross, Registrar, Department of Anthropology, Field Museum of Natural History, Roosevelt Road at Lake Shore Drive, Chicago, IL 60605, telephone (312) 665-7824, before November 24, 2000. Repatriation of this cultural item to the Cape Fox Corporation may begin after that date if no additional claimants come forward.

Dated: October 16, 2000.
John Robbins,
Assistant Director, Cultural Resources Stewardship and Partnerships.

[FR Doc. 00-27393 Filed 10-24-00; 8:45 am]

BILLING CODE 4310-70-F